OFFICE OF THE UNITED STATES TRADE REPRESENTATIVE

Determination of Trade Surplus in Certain Sugar and Syrup Goods and Sugar-Containing Products of Chile, Morocco, Costa Rica, the Dominican Republic, El Salvador, Guatemala, Honduras, Nicaragua, Peru, Colombia, and Panama; Correction

AGENCY: Office of the United States Trade Representative.

ACTION: Notice; Correction.

SUMMARY: The Office of the United States Trade Representative published a document in the Federal Register of December 17, 2012 concerning the determination of the trade surplus in certain sugar and syrup goods and sugar containing products of Determination of Trade Surplus in Certain Sugar and Syrup Goods and Sugar-Containing Products of Chile, Morocco, Costa Rica, the Dominican Republic, El Salvador, Guatemala, Honduras, Nicaragua, Peru, Colombia, and Panama. The document contained an error.

FOR FURTHER INFORMATION CONTACT: Ann Heilman-Dahl, Office of Agricultural Affairs, telephone: 202-395-6127 or facsimile: 202-395-4579.

Correction to Previous Notice

In the Federal Register of December 17, 2012, Volume 77, Pages 74726-74729, a correction is being made to the information in the information with regard to the Dominican Republic on page 74727, column three, paragraph three. The notice incorrectly states that during Calendar Year 2011, the Dominican Republic's imports of the sugar and syrup goods and sugar-containing products exceeded its exports by 3,066 metric tons. The correct statement is that during Calendar Year 2011, the Dominican Republic's exports of the sugar and syrup goods and sugar-containing products exceeded its imports by 3,066 metric tons. All other information remains unchanged and will not be repeated in this correction.

Ann Heilman-Dahl,
Director for Agriculture Affairs, Office of the U.S. Trade Representative.

[FR Doc. 2012-31441 Filed 12-31-12; 8:45 am]

BILLING CODE 3290-F3-P